FEDERAL RESERVE SYSTEM

Agency Information Collection Activities: Announcement of Board Approval Under Delegated Authority and Submission to OMB

SUMMARY:

Background

Notice is hereby given of the final approval of proposed information collection(s) by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT:

Federal Reserve Board Clearance Officer—Mary M. West—Division of Research and Statistics, Board of Governors of the Federal Reserve System, Washington, DC 20551 (202-452-3829)

OMB Desk Officer—Alexander T. Hunt—Office of Information and Regulatory Affairs, Office of Management and Budget, New Executive Office Building, Room 3208, Washington, DC 20503 (202-395-7860)

Final Approval Under OMB Delegated Authority of the Implementation of the Following Report

1. Report title: Central Bank Survey of Foreign Exchange and Derivatives Market Activity

Agency form number: FR 3036.

OMB Control number: 7100-0285.

Frequency: One-time.

Reporters: Financial institutions that serve as intermediaries in the wholesale foreign exchange and derivatives market, dealers, and brokers.

Annual reporting hours: 9,458 hours.

Estimated average hours per response: Turnover survey: 50 hours; outstandings survey: 15 hours for FR 2436 reporters, 60 hours for non-FR 2436 reporters.

Number of respondents: 161.

Small businesses are not affected.

General description of report: This information collection is voluntary (12 U.S.C. 248(a), 353-359, and 461) and is given confidential treatment (5 U.S.C. 552(b)(4)).

Abstract: The survey is the latest in an ongoing series of surveys conducted by central banks every three years. The survey will be conducted in April and June of 2001 by the Federal Reserve Bank of New York. Data from the survey will provide information about the size and structure of the global markets for foreign exchange and financial derivatives transactions. The survey is part of a data collection effort conducted by over fifty other central banks and monetary authorities. The data will be useful to the Federal Reserve Board, other government agencies, and market participants for determining public policy relating to financial markets. Aggregate results from each central bank's survey will be provided to the Bank for International Settlements for the production of global market statistics.

Final Approval Under OMB Delegated Authority of the Extension for Three Years, Without Revision, of the Following Reports

1. Report titles: Uniform Application for Municipal Securities Principal or Municipal Securities Representative Associated with a Bank Municipal Securities Dealer; Uniform Termination Notice for Municipal Securities Principal or Municipal Securities Representative Associated with a Bank Municipal Securities Dealer.

Agency form number: FR MSD-4, FR MSD-5.

OMB control number: 7100-0100, 7100-0101.

Frequency: On occasion.

Reporters: State member banks, bank holding companies, and foreign dealer banks engaging in activities as municipal securities dealers.

Annual reporting hours: 36 (FR MSD-4), 20 (FR MSD-5).

Estimated average hours per response: 1.00 (FR MSD-4), 0.25 (FR MSD-5).

Number of respondents: 36 (FR MSD-4), 80 (FR MSD-5).

Small businesses are not affected.

General description of report: These information collections are mandatory (15 U.S.C. 78o-4, 78q, and 78u) and are given confidential treatment (5 U.S.C. 552(b)(6)).

Abstract: The MSD-4 collects information, such as personal history and professional qualifications, on an employee whom the bank wishes to assume the duties of a municipal securities principal or representative. The FR MSD-5 collects the date of, and reason for, termination of such an employee.

2. Report titles: Notice by Financial Institutions of Government Broker or Government Securities Dealer Activities; Notice by Financial Institutions of Termination of Activities as a Government Securities Broker or Government Securities Dealer.

Agency form number: FR G-FIN, FR G-FINW.

OMB control number: 7100-0224.

Frequency: On occasion.

Reporters: State member banks, foreign banks, uninsured state branches or state agencies of foreign banks, commercial lending companies owned or controlled by foreign banks, and Edge corporations.

Annual reporting hours: 25 (FR G-FIN), 0.5 (FR G-FINW).

Estimated average hours per response: 1.00 (FR G-FIN), 0.25 (FR G-FINW).

Number of respondents: 25(FR G-FIN), 2(FR G-FINW).

Small businesses are affected.

General description of report: These information collections are mandatory (15 U.S.C. 78o-5(a)(1)(B)) and are not given confidential treatment.

Abstract: The Government Securities Act of 1986 (the Act) requires financial institutions to notify their appropriate regulatory authority of their intent to engage in government securities broker or dealer activities, to amend information submitted previously, and to record their termination of such activity. The Federal Reserve Board uses the information in its supervisory capacity to measure compliance with the Act.

Board of Governors of the Federal Reserve System, March 22, 2001.
Robert deV. Frierson,
Associate Secretary of the Board.

[FR Doc. 01-7569 Filed 3-27-01; 8:45 am]

BILLING CODE 6210-01-P